DEPARTMENT OF COMMERCE

International Trade Administration

[A-583-508]

Porcelain-on-Steel Cooking Ware From Taiwan: Final Results of Sunset Review and Revocation of Antidumping Duty Order

AGENCY: Import Administration, International Trade Administration, Department of Commerce.

SUMMARY: On October 1, 2010, the Department of Commerce (the Department) initiated the third sunset review of the antidumping duty order on porcelain-on-steel cooking ware (POS cooking ware) from Taiwan pursuant to section 751(c) of the Tariff Act of 1930, as amended (the Act), and 19 CFR 351.218(c). See Initiation of Five-Year (“Sunset”) Review, 75 FR 60731 (October 1, 2010) (Initiation Notice). Because no domestic interested party responded to the sunset review notice of initiation by the applicable deadline, the Department is revoking the antidumping duty order on POS cooking ware from Taiwan.

DATES: Effective Date: November 22, 2010.

FOR FURTHER INFORMATION CONTACT: Martha Douthit or Dana Mermelstein, AD/CVD Operations, Import Administration, International Trade Administration, U.S. Department of Commerce, 14th Street and Constitution Avenue, NW., Washington, DC 20230; telephone: (202) 482-5050 or (202) 482-1391.

SUPPLEMENTARY INFORMATION:

Scope of the Order

The merchandise subject to this antidumping duty order is porcelain-on-steel cooking ware from Taiwan that does not have self-contained electric heating elements. All of the foregoing are constructed of steel and are enameled or glazed with vitreous glasses. Kitchenware and teakettles are not subject to the order. The merchandise is currently classifiable under the Harmonized Tariff Schedule of the United States (HTSUS) number 7323.94.00. HTSUS item numbers are provided for convenience and customs purposes. The written description of the scope remains dispositive.

Background

On December 2, 1986, the Department published, in the Federal Register, the antidumping duty order on POS cooking ware from Taiwan. See Antidumping Duty Order; Porcelain-on-Steel Cooking Ware from Taiwan, 51 FR 43416 (December 2, 1986). In two subsequent sunset reviews, based on affirmative decisions by the Department and the International Trade Commission, the antidumping duty order on POS cooking ware from Taiwan was continued. See Continuation of Antidumping Duty Orders: Porcelain-on-Steel Cooking Ware From China, Mexico, and Taiwan, 65 FR 20136 (April 14, 2000); Porcelain-on-Steel Cooking Ware from the People's Republic of China and Taiwan; Continuation of Antidumping Duty Orders, 70 FR 70581 (November 22, 2005).

On October 1, 2010, the Department initiated the current sunset review of the antidumping duty order on POS cooking ware from Taiwan, pursuant to section 751(c) of the Act. See Initiation Notice. We received no response to the notice of initiation from the domestic industry by the applicable deadline. See 19 CFR 351.218(d)(1)(i). As a result, the Department has determined that no domestic interested party intends to participate in the sunset review. See 19 CFR 351.218(d)(1)(iii)(B). On October 21, 2010, we notified the International Trade Commission, in writing, that we intend to revoke the antidumping duty order on POS cooking ware from Taiwan. See 19 CFR 351.218(d)(1)(iii)(B)(2).

Revocation

Pursuant to section 751(c)(3)(A) of the Act and 19 CFR 351.218(d)(1)(iii)(B)(3), if no domestic interested party files a notice of intent to participate in the sunset review, the Department shall, within 90 days after the initiation of the review, revoke the order. Because no domestic interested party filed a timely notice of intent to participate in this sunset review, the Department finds that no domestic interested party is participating in this sunset review. Therefore, we are revoking the antidumping duty order on POS cooking ware from Taiwan.

Effective Date of Revocation

The effective date of revocation is November 22, 2010, the fifth anniversary of the date of publication in the Federal Register of the most recent notice of continuation of the antidumping duty order. See 19 CFR 351.222(i)(2)(i). Pursuant to sections 751(c)(3)(A) and 751(c)(6)(A)(iii) of the Act and 19 CFR 351.222(i)(2)(i), the Department intends to instruct U.S. Customs and Border Protection to terminate the suspension of liquidation of the merchandise subject to this antidumping duty order entered, or withdrawn from warehouse, for consumption, on or after November 22, 2010.

Entries of subject merchandise prior to the effective date of revocation will continue to be subject to suspension of liquidation and antidumping duty deposit requirements. The Department will complete any pending administrative reviews of the order and will conduct administrative reviews of subject merchandise entered prior to the effective date of revocation in response to appropriately filed requests for review.

This five-year (sunset) review and notice are issued and published in accordance with sections 751(c) and 777(i)(1) of the Act.

Dated: December 21, 2010.
Christian Marsh,
Acting Deputy Assistant Secretary for Import Administration.

[FR Doc. 2010-32771 Filed 12-28-10; 8:45 am]

BILLING CODE 3510-DS-P